DEPARTMENT OF THE INTERIOR

Bureau of Land Management

[ES-930-5104-FI]

Notice of Proposed Reinstatement of Terminated Oil and Gas Lease

AGENCY: Bureau of Land Management, Interior.

ACTION: Notice of Proposed Reinstatement of Terminated Oil and Gas Lease.

SUMMARY: Under the provisions of Public Law 97-451, the Bureau of Land Management (BLM) received a petition for reinstatement of the oil and gas leases, ARES 52198 and ARES 52200 located in Scott and Montgomery County, Ouachita N.F., Arkansas, and ARES 53624 located in Yell County, Ouachita N.F., Arkansas. The petition was filed on time and was accompanied by all rentals due since the date the leases terminated under law.

FOR FURTHER INFORMATION, CONTACT: Ann Dickerson, Land Law Examiner, at 703-440-1512, or Bureau of Land Management—Eastern States, 7450 Boston Boulevard, Springfield, Virginia 22153.

SUPPLEMENTARY INFORMATION: The lessee has agreed to the amended lease terms for rentals and royalties at rates of $10 per acre (competitive) and $5 per acre (non-competitive), or fraction thereof, per year and 16 2/3 percent respectively. The lessee has paid the required administrative fee and publication fee to reimburse the Department for the cost of this Federal Register notice. The lessee has met all the requirements for reinstatement of the lease as set out in Section 31(d) and (e) of the Mineral Leasing Act of 1920, as amended (30 U.S.C. 188), and the BLM is proposing to reinstate the leases listed above, effective September 1, 2004 (ARES 52198 and ARES 52200) and November 1, 2005 (ARES 53624), under the original terms and conditions of the leases and the increased rental and royalty rates cited above. The BLM has not issued any valid leases affecting the lands.

Dated: December 21, 2007.
Steven R. Wells,
Acting State Director, Eastern States.

[FR Doc. E7-25387 Filed 12-28-07; 8:45 am]

BILLING CODE 4310-GJ-P